DEPARTMENT OF ENERGY

[Number DE-PS07-03ID14525]

Nuclear Energy Plant Optimization (NEPO) Program for Minority Institutions Under the 2003 University Partnership Program

AGENCY: Idaho Operations Office, DOE.

ACTION: Notice of availability of solicitation for awards of financial assistance.

SUMMARY: The U.S. Department of Energy (DOE), Idaho Operations Office (ID) is seeking applications from minority institutions who are part of the 2003 University Partnership Program under the Nuclear Energy Plant Optimization (NEPO) Program to strengthen the nuclear educational infrastructure, and support research and development of nuclear power technologies. The following schools are currently designated “minority institutions” who are recognized as part of the University Partnership Program for FY 2003: Tuskegee University, South Carolina State University, Texas A&M University-Kingsville, Prairie View A&M University, New Mexico State University, and University of New Mexico.

DATES: The issuance date of Solicitation Number DE-PS07-03ID14525 was June 27, 2003. The deadline for receipt of applications is July 30, 2003, at 3 p.m. MT.

ADDRESSES: The solicitation will be available in its full text on the Internet by going to the DOE's Industry Interactive Procurement System (IIPS) at the following URL address: http://e-center.doe.gov. This will provide the medium for disseminating solicitations and amendments to solicitations, receiving financial assistance applications and evaluating applications in a paperless environment. Completed applications are required to be submitted via IIPS. An IIPS “User Guide for Contractors” can be obtained on the IIPS Homepage and then click on the “Help” button. Questions regarding the operation of IIPS may be e-mailed to the IIPS Help Desk at IIPS HelpDesk@e-center.doe.gov.

FOR FURTHER INFORMATION CONTACT: Trudy Harmel, Contracting Officer at harmelta@id.doe.gov.

SUPPLEMENTARY INFORMATION: The solicitation will be issued in accordance with 10 CFR 600.6(b). Eligibility for awards under this program will be restricted to those minority universities who are part of the 2003 University Partnership Program.

DOE anticipates making 1 or more grant award(s), with total estimated DOE funding of approximately $100K, and a project period of 12-18 months. Only minority institutions currently in the 2003 University Partnership Program are eligible to submit project proposals. The statutory authority for the program is the Atomic Energy Act, 42 U.S.C. 2051 Section 31. The Catalog of Federal Domestic Assistance (CFDA) Number for this program is 81.114.

Issued in Idaho Falls on June 26, 2003.
Michael L. Adams,
Acting Director, Procurement Services Division.

[FR Doc. 03-17197 Filed 7-7-03; 8:45 am]

BILLING CODE 6450-01-P